DEPARTMENT OF HEALTH AND HUMAN SERVICES

Administration for Children and Families

Statement of Organization, Functions and Delegation of Authority

Notice is hereby given that I have delegated to the Principal Deputy Assistant Secretary, Deputy Assistant Secretaries, Program Directors, Program Commissioners, Deputy Director/Commissioner, Office of Child Support Enforcement, and Staff Office Directors the following authority vested in me by the Secretary of Health and Human Services in the memorandum dated August 20, 1991, Delegations of Authority for Social Security Act Programs; 31 U.S.C. 1535; and HHS General Administrative Manual, Chapter 8-77.

(a) Authorities Delegated.

1. Authority to administer approved cooperative research, experimental, pilot or demonstration projects under the provisions of sections 1110 and 1115 of the Social Security Act.

2. Authority to approve interagency agreements to procure, provide or exchange services, supplies or equipment.

(b) Limitations.

1. The authority listed in #1 above shall be exercised under the condition that projects may be approved and administered by the Office of Planning, Research and Evaluation (OPRE), by the program/staff office or jointly by OPRE with the program/staff office.

2. Where all or any part of an experimental, pilot, demonstration, or other project is wholly financed with Federal funds made available under sections 1110 or 1115 of the Social Security Act, without any State, local or other non-Federal financial participation, that project must be approved by the Secretary of Health and Human Services.

3. This delegation of authority does not include the authority to approve/disapprove projects under section 1115 of the Social Security Act or approve/disapprove waivers of State Plan requirements or costs that would not otherwise be included as expenditures under the provisions of sections 1115(a)(1) and (2) of the Social Security Act.

4. The authority to approve interagency agreements to procure, provide, or exchange services, supplies, or equipment requires the concurrence of the ACF Chief Financial Officer if it exceeds $250,000 (including amendments) within a fiscal year or if it requires the signature of the Assistant Secretary, ACF, or the Secretary of HHS.

(c) Effective Date.

This delegation is effective upon the date of signature.

(d) Effect on Existing Delegations.

As related to this delegation of authority, this delegation supersedes all previous delegations of authority involving the administration of the cross-program authorities delegated herein.

I hereby ratify and affirm any actions taken by the Principal Deputy Assistant Secretary, Deputy Assistant Secretaries, Program Directors, Program Commissioners, Deputy Director/Commissioner, Office of Child Support Enforcement, and Staff Office Directors, which involved the exercise of the authority delegated herein prior to the effective date of this delegation.

Dated: April 22, 2008.
Daniel C. Schneider,
Assistant Secretary for Children and Families.

[FR Doc. E8-9898 Filed 5-5-08; 8:45 am]

BILLING CODE 4184-01-P